DEPARTMENT OF ENERGY

[OE Docket No. PP-335]

Application for Presidential Permit; Loring BioEnergy, LLC

AGENCY: Office of Electricity Delivery and Energy Reliability, DOE.

ACTION: Notice of application.

SUMMARY: Loring BioEnergy, LLC, (LBE) has applied for a Presidential permit to construct, operate, maintain, and connect an electric transmission line across the United States border with Canada.

DATES: Comments, protests, or requests to intervene must be submitted on or before April 2, 2008.

ADDRESSES: Comments, protests, or requests to intervene should be addressed as follows: Dr. Jerry Pell, Office of Electricity Delivery and Energy Reliability (OE-20), U.S. Department of Energy, 1000 Independence Avenue, SW., Washington, DC 20585.

FOR FURTHER INFORMATION CONTACT: Dr. Jerry Pell (Program Office) at 202-586-3362 or via electronic mail at Jerry.Pell@hq.doe.gov, or Michael T. Skinker (Program Attorney) at 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On February 4, 2008, LBE, a Maine limited liability corporation, filed an application with the Office of Electricity Delivery and Energy Reliability of the Department of Energy (DOE) for a Presidential permit. LBE proposes to construct and operate a single-circuit 138-kilovolt (138-kV) electric transmission line from Limestone, Maine, to the border between the United States and Canada. The proposed transmission line is referred to in the application as a 138-kV AC Generator Lead. The proposed transmission facilities would extend from a new cogeneration facility to be constructed by LBE at the Loring Commerce Centre near Limestone, Maine (the site of the former Loring Air Force Base), located approximately five and one-half miles west of the U.S.-Canada border, cross the U.S.-Canada border, and extend approximately three and one-half miles east to connect to the New Brunswick electrical grid in Grand Falls Parish, New Brunswick, Canada. New Brunswick Power, an agency of the Province of New Brunswick, Canada, will construct the Canadian portion of the transmission facilities.

Since the restructuring of the electric industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the Federal Power Act and articulated in Federal Energy Regulatory Commission (FERC) Order No. 888 (Promoting Wholesale Competition Through Open Access Non-Discriminatory Transmission Services by Public Utilities; FERC Stats. & Regs. ¶31,036 (1996)), as amended. In furtherance of this policy, DOE invites comments on whether it would be appropriate to condition any Presidential permit issued in this proceeding on compliance with these open access principles.

Procedural Matters: Any person desiring to become a party to this proceeding or to be heard by filing comments on or protests to this application should file a petition to intervene, comment, or protest at the address provided above in accordance with §§ 385.211 or 385.214 of FERC's Rules of Practice and Procedure (18 CFR 385.211, 385.214). Fifteen copies of each petition and protest should be filed with DOE on or before the date listed above.

Additional copies of such petitions to intervene, comments, or protests should also be filed directly with Hayes Gahagan, Vice President, Loring BioEnergy, LLC, 154 Development Drive, Suite G, Loring Commerce Centre, Limestone, ME 04750-6173.

Before a Presidential permit may be issued or amended, DOE must determine that the proposed action is in the public interest. In making that determination, DOE considers the environmental impacts of the proposed project pursuant to the National Environmental Policy Act of 1969, determines the project's impact on electric reliability by ascertaining whether the proposed project would adversely affect the operation of the U.S. electric power supply system under normal and contingency conditions, and any other factors that DOE may also consider relevant to the public interest. Also, DOE must obtain the concurrence of the Secretary of State and the Secretary of Defense before taking final action on a Presidential permit application.

Copies of this application will be made available, upon request, for public inspection and copying at the address provided above. In addition, the application may be reviewed or downloaded electronically at http://www.oe.energy.gov/permitting/electricity_imports_exports.htm. Upon reaching the Electricity Import/Exports page, select “Pending Proceedings.”

Issued in Washington, DC, on February 26, 2008.
Anthony J. Como,
Director, Permitting and Siting, Office of Electricity Delivery and Energy Reliability.

[FR Doc. E8-3993 Filed 2-29-08; 8:45 am]

BILLING CODE 6450-01-P